INTERNATIONAL TRADE COMMISSION

Temporary Change to Filing Procedures

AGENCY: United States International Trade Commission.

ACTION: Notice.

SUMMARY: The United States International Trade Commission (Commission) provides notice that, to address concerns related to COVID-19, it is temporarily waiving certain of the Commission's rules that require the filing of paper copies, CD-ROMs, and other physical media, and amending certain of the Commission's rules that allow only for paper filing of certain documents in import injury investigations.

DATES: Immediately and until further notice.

FOR FURTHER INFORMATION CONTACT: You may direct telephone inquiries to the Office of the Secretary at (202) 205-2000. You may direct email inquiries to EDIS3help@usitc.gov. Hearing impaired persons can obtain information on this matter by contacting the Commission's TDD terminal at (202) 205-1810. You may find general information concerning the Commission at https://www.usitc.gov.

SUPPLEMENTARY INFORMATION: Section 201.4(b) of the Commission's Rules of Practice and Procedure (19 CFR 201.4(b)) permits the Commission to amend, waive, suspend, or revoke Commission rules for “good and sufficient reason” if the rule is not a matter of procedure required by law. The procedures for the filing of documents, including the provision of paper copies, CD-ROMs, and other physical media and methods of filing in import injury investigations are not procedures required by law. Therefore, to address concerns related to COVID-19, the Commission has determined that there is good and sufficient reason to waive and amend certain Commission rules that require such submissions and to require electronic filing for all documents filed with the Commission. This waiver and amendment is effective immediately and until further notice, which will be provided in a subsequent Federal Register notice. Waiver and amendment of these rules will mitigate disruption to import injury investigations in the event that the USITC building is inaccessible.

Specifically, the Commission temporarily waives:

Rule 201.8(d)(1)-(4)'s paper copy requirements, as they pertain to Rules 201.12, 201.14, 206.2, 206.8(d), 207.10(a), 207.15, 207.23, 207.24, 207.25, 207.28, 207.30, 207.61, 207.62(b)(ii)(2), 207.65, 207.67(a), and 207.68(b); and the paper copy requirements set forth in Rules 201.8(f), 201.12, 201.14, 206.2, 206.8(d), 207.10(a), 207.15, 207.23, 207.25, 207.28, 207.30, 207.61, 207.62(b)(ii)(2), 207.65, 207.67(a), and 207.68(b).

The Commission has also approved the temporary amendment of Rule 206.2 and Rule 207.10(a) to permit parties to file import injury petitions, exhibits, attachments, and appendices electronically. All such filings shall comply with the procedures set forth in the Commission's Electronic Document Information System website at https://edis.usitc.gov.

By order of the Commission.
Issued: March 16, 2020.
Lisa Barton,
Secretary to the Commission.

[FR Doc. 2020-05773 Filed 3-18-20; 8:45 am]

BILLING CODE 7020-02-P